Title 3—

The President

Notice of July 19, 2007

Continuation of the National Emergency With Respect to the Former Liberian Regime of Charles Taylor

On July 22, 2004, by Executive Order 13348, I declared a national emergency and ordered related measures, including the blocking of property of certain persons associated with the former Liberian regime of Charles Taylor, pursuant to the International Emergency Economic Powers Act (50 U.S.C. 1701-1706). I took this action to deal with the unusual and extraordinary threat to the foreign policy of the United States constituted by the actions and policies of former Liberian President Charles Taylor and other persons, in particular, their unlawful depletion of Liberian resources and their removal from Liberia and secreting of Liberian funds and property, which have undermined Liberia's transition to democracy and the orderly development of its political, administrative, and economic institutions and resources. I further noted that the Comprehensive Peace Agreement signed on August 18, 2003, and the related cease-fire had not yet been universally implemented throughout Liberia, and that the illicit trade in round logs and timber products was linked to the proliferation of and trafficking in illegal arms, which perpetuated the Liberian conflict and fueled and exacerbated other conflicts throughout West Africa.

Today, Liberia is engaged in a peaceful transition to a democratic order under the administration of President Ellen Johnson-Sirleaf. The regulations implementing Executive Order 13348, clarify that the subject of this national emergency has been and remains limited to the former Liberian regime of Charles Taylor and specified other persons and not the country, citizens, Government, or Central Bank of Liberia.

Charles Taylor is today standing trial in The Hague by the Special Court for Sierra Leone. However, stability in Liberia is still fragile. The actions and policies of Charles Taylor and others have left a legacy of destruction that still has the potential to undermine Liberia's transformation and recovery.

Because the actions and policies of these persons continue to pose an unusual and extraordinary threat to the foreign policy of the United States, the national emergency declared on July 22, 2004, and the measures adopted on that date to deal with that emergency, must continue in effect beyond July 22, 2007. Therefore, in accordance with section 202(d) of the National Emergency Act (50 U.S.C. 1622(d)), I am continuing for 1 year the national emergency declared in Executive Order 13348.

This notice shall be published in the Federal Register and transmitted to the Congress.

THE WHITE HOUSE,

July 19, 2007.

[FR Doc. 07-3595

Filed 7-19-07; 11:11 am]

Billing code 3195-01-P